DEPARTMENT OF ENERGY

Federal Energy Regulatory Commission

Combined Notice of Filings #1

Take notice that the Commission received the following electric corporate filings:

Docket Numbers: EC11-54-000.

Applicants: Wildcat Power Holdings, LLC, Entegra Power Group LLC, Gila River Power, L.P.

Description: Joint Application for Authorization under section 203 of the Federal Power Act, Request for Waiver of Certain Commission Requirements, and Requests for Confidential Treatment and Expedited Treatment.

Filed Date: 03/22/2011.

Accession Number: 20110322-5163.

Comment Date: 5 p.m. Eastern Time on Tuesday, April 12, 2011.

Take notice that the Commission received the following electric rate filings:

Docket Numbers: ER10-1473-001; ER10-1474-001; ER10-1478-001; ER10-1451-001; ER10-1459-001; ER10-1458-001; ER10-1454-001; ER10-1453-001; ER10-2687-001; ER10-2688-003; ER10-2689-003; ER10-2727-001; ER10-2728-002; ER10-2729-002.

Applicants: Allegheny Energy Supply Company, LLC, Green Valley Hydro, LLC, FirstEnergy Generation Corp., Jersey Central Power & Light Co., Monongahela Power Company, Potomac Edison Company, FirstEnergy Nuclear Generation Corp., Buchanan Generation, LLC, FirstEnergy Solutions Corp., FirstEnergy Generation Mansfield Unit 1, Pennsylvania Power Company, West Penn Power Company, Firstenergy Operating Companies.

Description: Change-in-Status Report of FirstEnergy Generation Corp., et al. Regarding Merger of FirstEnergy Corp. and Allegheny Energy, Inc.

Filed Date: 03/21/2011.

Accession Number: 20110321-5194.

Comment Date: 5 p.m. Eastern Time on Monday, April 11, 2011.

Docket Numbers: ER10-1768-001.

Applicants: Public Service Electric and Gas Company.

Description: Public Service Electric and Gas Company submits tariff filing per 35: Compliance Filing pursuant to February 25, 2011 Order to be effective 3/22/2011.

Filed Date: 03/22/2011.

Accession Number: 20110322-5123.

Comment Date: 5 p.m. Eastern Time on Tuesday, April 12, 2011.

Docket Numbers: ER10-1770-001.

Applicants: PSEG Fossil LLC.

Description: PSEG Fossil LLC submits tariff filing per 35: Compliance Filing pursuant to February 25, 2011 Order to be effective 3/22/2011.

Filed Date: 03/22/2011.

Accession Number: 20110322-5119.

Comment Date: 5 p.m. Eastern Time on Tuesday, April 12, 2011.

Docket Numbers: ER10-1771-001.

Applicants: PSEG Nuclear LLC.

Description: PSEG Nuclear LLC submits tariff filing per 35: Compliance Filing pursuant to February 25, 2011 Order to be effective 3/22/2011.

Filed Date: 03/22/2011.

Accession Number: 20110322-5120.

Comment Date: 5 p.m. Eastern Time on Tuesday, April 12, 2011.

Docket Numbers: ER10-1789-002.

Applicants: PSEG Energy Resources & Trade LLC.

Description: PSEG Energy Resources & Trade LLC submits tariff filing per 35: Compliance Filing pursuant to February 25, 2011 Order to be effective 3/22/2011.

Filed Date: 03/22/2011.

Accession Number: 20110322-5118.

Comment Date: 5 p.m. Eastern Time on Tuesday, April 12, 2011.

Docket Numbers: ER10-1793-001.

Applicants: PSEG Power Connecticut LLC.

Description: PSEG Power Connecticut LLC submits tariff filing per 35: Compliance Filing pursuant to February 25, 2011 Order to be effective 3/22/2011.

Filed Date: 03/22/2011.

Accession Number: 20110322-5122.

Comment Date: 5 p.m. Eastern Time on Tuesday, April 12, 2011.

Docket Numbers: ER10-1891-001; ER10-1896-001.

Applicants: Citigroup Energy Canada ULC, Citigroup Energy Inc.

Description: Supplement to Notice of Non-Material Change in Status of Citigroup Energy Inc., et al.

Filed Date: 03/22/2011.

Accession Number: 20110322-5105.

Comment Date: 5 p.m. Eastern Time on Tuesday, April 12, 2011.

Docket Numbers: ER10-2497-003.

Applicants: Alliant Energy Corporate Services, Inc.

Description: Alliant Energy Corporate Services, Inc's Notice of Change in Status.

Filed Date: 03/22/2011.

Accession Number: 20110322-5106.

Comment Date: 5 p.m. Eastern Time on Tuesday, April 12, 2011.

Docket Numbers: ER11-2303-001.

Applicants: Southwest Power Pool, Inc.

Description: Southwest Power Pool, Inc. submits tariff filing per 35.17(b): Amendment to Attachment P Revisions to be effective 5/1/2011.

Filed Date: 03/22/2011.

Accession Number: 20110322-5110.

Comment Date: 5 p.m. Eastern Time on Tuesday, April 12, 2011.

Docket Numbers: ER11-2855-001.

Applicants: Avenal Park LLC.

Description: Avenal Park LLC submits tariff filing per 35.17(b): Amended Application for Market-Based Rate Authority to be effective 4/8/2011.

Filed Date: 03/22/2011.

Accession Number: 20110322-5140.

Comment Date: 5 p.m. Eastern Time on Tuesday, April 12, 2011.

Docket Numbers: ER11-2856-001.

Applicants: Sand Drag LLC.

Description: Sand Drag LLC submits tariff filing per 35.17(b): Amended Application for Market-Based Rate Authority to be effective 4/8/2011.

Filed Date: 03/22/2011.

Accession Number: 20110322-5139.

Comment Date: 5 p.m. Eastern Time on Tuesday, April 12, 2011.

Docket Numbers: ER11-2857-001.

Applicants: Sun City Project LLC.

Description: Sun City Project LLC submits tariff filing per 35.17(b): Amended Application for Market-Based Rate Authority to be effective 4/8/2011.

Filed Date: 03/22/2011.

Accession Number: 20110322-5138.

Comment Date: 5 p.m. Eastern Time on Tuesday, April 12, 2011.

Docket Numbers: ER11-3162-000.

Applicants: Public Service Company of New Mexico.

Description: Public Service Company of New Mexico submits tariff filing per 35.12: Service Agreement No. 372 TGP Granada 300 MW PTP Firm to be effective 1/1/2011.

Filed Date: 03/22/2011.

Accession Number: 20110322-5033.

Comment Date: 5 p.m. Eastern Time on Tuesday, April 12, 2011.

Docket Numbers: ER11-3163-000.

Applicants: Kansas Energy LLC.

Description: Kansas Energy LLC submits tariff filing per 35.1: Kansas Energy—Baseline eTariff 03222011 to be effective 3/22/2011.

Filed Date: 03/22/2011.

Accession Number: 20110322-5048.

Comment Date: 5 p.m. Eastern Time on Tuesday, April 12, 2011.

Docket Numbers: ER11-3164-000.

Applicants: Idaho Power Company.

Description: Idaho Power Company's OATT Refund Report.

Filed Date: 03/22/2011.

Accession Number: 20110322-5078.

Comment Date: 5 p.m. Eastern Time on Tuesday, April 12, 2011.

Docket Numbers: ER11-3165-000.

Applicants: Southern California Edison Company.

Description: Southern California Edison Company submits tariff filing per 35.13(a)(2)(iii): LGIA Amendment El Segundo Energy Center Project to be effective 3/23/2011.

Filed Date: 03/22/2011.

Accession Number: 20110322-5089.

Comment Date: 5 p.m. Eastern Time on Tuesday, April 12, 2011.

Docket Numbers: ER11-3166-000.

Applicants: AEP Texas Central Company.

Description: AEP Texas Central Company submits tariff filing per 35.15: 20110322 TCC-Laredo IA Cancellation to be effective 4/1/2011.

Filed Date: 03/22/2011.

Accession Number: 20110322-5090.

Comment Date: 5 p.m. Eastern Time on Tuesday, April 12, 2011.

Docket Numbers: ER11-3167-000.

Applicants: Alabama Power Company.

Description: Alabama Power Company submits tariff filing per 35.13(a)(2)(iii): Attachment S (GPCo) Filing to be effective 1/1/2011.

Filed Date: 03/22/2011.

Accession Number: 20110322-5101.

Comment Date: 5 p.m. Eastern Time on Tuesday, April 12, 2011.

Docket Numbers: ER11-3168-000.

Applicants: Xcel Energy Services Inc.

Description: Notice of Termination of Schedule C, Interruptible Power Service, to the Interconnection Agreement between Southwestern Public Service Company and Public Service Company of New Mexico, filed by Xcel Energy Services Inc.

Filed Date: 03/22/2011.

Accession Number: 20110322-5108.

Comment Date: 5 p.m. Eastern Time on Tuesday, April 12, 2011.

Docket Numbers: ER11-3169-000.

Applicants: Georgia Power Company.

Description: Georgia Power Company submits tariff filing per 35.13(a)(2)(iii): JEA Scherer Unit 4 TSA Updated Depreciation Rates Filing to be effective 1/1/2011.

Filed Date: 03/22/2011.

Accession Number: 20110322-5107.

Comment Date: 5 p.m. Eastern Time on Tuesday, April 12, 2011.

Docket Numbers: ER11-3170-000.

Applicants: Georgia Power Company.

Description: Georgia Power Company submits tariff filing per 35.13(a)(2)(iii): FP&L Scherer Unit 4 TSA Updated Depreciation Rates Filing to be effective 1/1/2011.

Filed Date: 03/22/2011.

Accession Number: 20110322-5109.

Comment Date: 5 p.m. Eastern Time on Tuesday, April 12, 2011.

Docket Numbers: ER11-3171-000.

Applicants: AEP Texas Central Company.

Description: AEP Texas Central Company submits tariff filing per 35.13(a)(2)(iii): 20110322 TCC-Magic Valley GIA to be effective 2/25/2011.

Filed Date: 03/22/2011.

Accession Number: 20110322-5130.

Comment Date: 5 p.m. Eastern Time on Tuesday, April 12, 2011.

Docket Numbers: ER11-3172-000.

Applicants: AEP Texas Central Company.

Description: AEP Texas Central Company submits tariff filing per 35.13(a)(2)(iii): 20110322 TCC-Los Vientos GIA to be effective 3/7/2011.

Filed Date: 03/22/2011.

Accession Number: 20110322-5141.

Comment Date: 5 p.m. Eastern Time on Tuesday, April 12, 2011.

Docket Numbers: ER11-3175-000.

Applicants: Entergy Services, Inc.

Description: Request of Entergy Services, Inc. for Clarifications or Waivers of Certain Affiliate Restrictions.

Filed Date: 03/22/2011.

Accession Number: 20110322-5162.

Comment Date: 5 p.m. Eastern Time on Tuesday, April 12, 2011.

Take notice that the Commission received the following electric reliability filings:

Docket Numbers: RR08-4-000; RR08-4-001; RR08-4-002; RR08-4-005.

Applicants: North American Electric Reliability Corp.

Description: Supplemental Information to North American Electric Reliability Corporation Compliance Filing in Response to the Order on Violation Severity Levels Proposed by the ERO.

Filed Date: 03/21/2011.

Accession Number: 20110321-5138.

Comment Date: 5 p.m. Eastern Time on Tuesday, April 05, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 23, 2011.
Nathaniel J. Davis, Sr.,
Deputy Secretary.

[FR Doc. 2011-7419 Filed 3-29-11; 8:45 am]

BILLING CODE 6717-01-P